DEPARTMENT OF ENERGY

Federal Energy Regulatory Commission

[Docket No. CP15-35-000]

Southern Natural Gas Company, LLC; Notice of Request Under Blanket Authorization

Take notice that on December 17, 2014 Southern Natural Gas Company, LLC (Southern), 569 Brookwood Village, Suite 749, Birmingham, Alabama 35209, filed in the above Docket, a prior notice request pursuant to sections 157.205 and 157.216 of the Commission's regulations under the Natural Gas Act (NGA) and Southern's blanket certificate issued in CP82-406-000 on September 1, 1982, for authorization to abandon approximately 16.6 miles of its 8-inch West Point Line, approximately 1.5 miles of its 4-inch West Point Line and West Point Meter Station located in Noxubee, Lowndes and Clay Counties, Mississippi, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Tina S. Hardy, Manager IC—Regulatory, Southern Natural Gas Company, 569 Brookwood Village, Suite 749, Birmingham, Alabama 35209, phone (205) 325-3668 or email tina_hardy@kindermorgan.com.

Specifically, Southern proposes to abandon in place 8-inch pipeline segment from milepost (MP) 0.00 to MP 16.60 and 4-inch pipeline segment form MP 22.786 to MP 24.257. Southern also proposes to remove ten above ground facilities on these pipeline segments, including the West Point Meter Station, and to grout and cap the pipe at all major road crossings. Southern states that the 8-inch pipeline ruptured on November 21, 2013 and the 4-inch line has not been used in 14 years. Southern also states that the abandonment will not impact Southern's firm requirements. Southern proposes to start abandonment work in April 2015 and complete it by June 2015. Southern states that the replacement cost for the facilities described above would be approximately $20.7 million.

Pursuant to section 157.9 of the Commission's rules, 18 CFR 57.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Dated: December 24, 2014.
Nathaniel J. Davis, Sr.,
Deputy Secretary.

[FR Doc. 2014-30824 Filed 1-2-15; 8:45 am]

BILLING CODE 6717-01-P